DEPARTMENT OF DEFENSE

Department of the Navy

Notice of Intent To Prepare an Environmental Impact Statement (EIS) for Airfield Operations at Naval Air Station (NAS) Key West, FL and To Announce Public Scoping Meetings

AGENCY: Department of the Navy, DoD.

ACTION: Notice.

SUMMARY: Pursuant to Section 102(2)(c) of the National Environmental Policy Act (NEPA) of 1969, as implemented by the Council on Environmental Quality Regulations (40 CFR parts 1500-1508), the Department of the Navy (Navy) announces its intent to prepare an EIS to identify and evaluate the potential environmental effects that may result from airfield training operations at NAS Key West. The EIS will consider all reasonable alternatives to the proposed action, including the No Action Alternative.

Dates and Addresses: Public scoping meetings will be held in Key West, Florida to receive oral and/or written comments on environmental concerns that should be addressed in the EIS. The public scoping meetings will be held on:

1. Wednesday, May 26, 2010, Doubletree Grand Key Resort Conference Room, 3990 South Roosevelt Boulevard, Key West, Florida.

2. Thursday, May 27, 2010, Tennessee Williams Theater at Florida Keys Community College, 5901 College Road, Key West (Stock Island), Florida.

Each meeting will occur in consecutive sessions from 3 p.m. to 5 p.m. and from 6 p.m. to 8 p.m. The meetings will be an open house format with informational displays and materials available for public review. The public will have an opportunity to submit written comments on environmental concerns that should be addressed in the EIS. Navy staff will be present at these open houses to answer questions.

FOR FURTHER INFORMATION CONTACT: NAS Key West EIS Project Manager, Naval Facilities Engineering Command Southeast, 904-542-6866.

SUPPLEMENTARY INFORMATION: The Navy's proposed action is to support and conduct aircraft training operations at NAS Key West by maintaining current/baseline airfield operations, supporting new aircraft airfield operations, and modifying airfield operations as necessary in support of the Fleet Readiness Training Plan (FRTP).

The purpose of the proposed action is to sustain the long-term viability of the NAS Key West airfield as a Fleet training station for tactical aviation squadrons and other DoD and Federal agency airfield users. The action is needed to maintain the level of readiness mandated in section 5062 of Title 10 of the United States Code. The primary mission of NAS Key West is to provide aviation training facilities, services, and access to training ranges for tactical aviation squadrons homebased throughout the United States. NAS Key West's weather/climate support year-round Fleet training, and its location provides efficient access to the nearby Key West Range Complex, the Fleet training range complex regularly used by Department of Defense (DoD) and Federal agency aircrews from around the country. The location of the Key West Range Complex offers the supporting infrastructure and unobstructed airspace that allows the Navy to fulfill operational and readiness training requirements. The primary users of NAS Key West are active and reserve Fleet F/A-18C Hornet and F/A-18E/F Super Hornet squadrons from both the East and West Coasts. Additionally, it is anticipated that F-35C aircraft homebased in the continental United States will operate at NAS Key West by 2015 as those aircraft replace the Navy's aging F/A-18C aircraft. Specifically, use of NAS Key West is necessary so that the Navy is able to support the rapid deployment of naval units; achieve and sustain readiness of squadrons to quickly surge significant combat power in the event of a national crisis or contingency operation consistent with the FRTP; and support required flight operations of other Federal agencies.

The action alternatives to be considered to achieve the proposed action include, but are not limited to: (1) Maintaining baseline operations while supporting the introduction of new aircraft and related, but minor infrastructure improvements necessary to support airfield flight operations; and (2) increasing airfield training operations above baseline levels, while supporting the introduction of new aircraft and related, but minor, infrastructure improvements necessary to support airfield flight operations. A potential increase in airfield operations above current/baseline levels would provide added operational capacity and flexibility to meet Navy training requirements under the FRTP.

Under the No Action Alternative, current/baseline operations and support of existing capabilities would continue and new aircraft would not be introduced.

No decision will be made to implement any alternative until the EIS process is completed and a Record of Decision is signed, by the Assistant Secretary of the Navy (Energy, Installations and Environment) or designee.

The EIS will evaluate the environmental effects associated with: Airspace; noise; safety; land resources; water resources; air quality; biological resources, including threatened and endangered species; land use and coastal resources; socioeconomic resources; infrastructure; cultural resources; and consistency with existing land use control plans, policies, and actions. The analysis will include an evaluation of direct and indirect impacts, and will account for cumulative impacts from other relevant activities in the area of NAS Key West. Additionally, the Navy will undertake any consultations required by all applicable laws or regulations.

The Navy is initiating this scoping process to identify community concerns and issues that should be addressed in the EIS. Federal, State, and local agencies, and interested parties and persons are encouraged to provide comments on the proposed action that clearly describe specific issues or topics of environmental concern that the commenter believes that the Navy should consider. All comments, written or provided orally at during the 30-day scoping comment period (ending June 10, 2010) will receive the same attention and consideration during EIS preparation.

Comments may be submitted orally or in writing at one of the public scoping meetings, electronically through the project Web site at http://www.keywesteis.com, or may be mailed to: U.S. Navy NAS Key West Air Operations EIS Project Manager, P.O. Box 30, Bldg 903, NAS Jacksonville, FL 32212. All written comments on the scope of the EIS must be submitted or postmarked no later than June 10, 2010.

Dated: May 5, 2010.
A. M. Vallandingham,
Lieutenant Commander, Office of the Judge Advocate General, U.S. Navy, Federal Register Liaison Officer.

[FR Doc. 2010-11314 Filed 5-11-10; 8:45 am]

BILLING CODE P